DEPARTMENT OF HEALTH AND HUMAN SERVICES

Food and Drug Administration

[Docket No. 00N-1485]

Report of the FDA Retail Food Program Database of Foodborne Illness Risk Factors; Notice of Availability; Public Meeting by Satellite

AGENCY: Food and Drug Administration, HHS.

ACTION: Notice of availability and announcement of public meeting.

SUMMARY: The Food and Drug Administration (FDA) is announcing the availability of the report entitled “Report of the FDA Retail Food Program Database of Foodborne Illness Risk Factors” and a public meeting via an interactive satellite teleconference. The purpose of the meeting is to present: The methodology used for developing a baseline on the occurrence of the Centers for Disease Control and Prevention (CDC)-identified foodborne illness risk factors in retail-level institutional food establishments, restaurants, and retail food stores and the data from the baseline inspections that were conducted by FDA Regional Food Specialists in 1998 to 1999.

Date and Time: The meeting will be held on October 27, 2000, 1 p.m. to 4 p.m. Satellite coordinates for the broadcast will be posted on the FDA Internet at www.fda.gov beginning October 13, 2000. The report will be available beginning September 11, 2000, on the FDA Internet at www.fda.gov and hard copies will be available after October 1, 2000, from the contact persons listed below.

Location: The satellite meeting will be broadcast nationwide from the FDA broadcast studio at the Center for Devices and Radiological Health, 16071-B Industrial Dr., Gaithersburg, MD 20877.

Contact: Denise M. Buckmon or LaKesha P. Abbey, Office of Field Programs (HFS-625), Center for Food Safety and Applied Nutrition, Food and Drug Administration, Switzer Bldg., rm. 1042, 200 C St. SW., Washington, DC 20204, 202-205-8140, FAX 202-205-5560, e-mail: “dbuckmon@cfsan.fda.gov” or “LAbbey@cfsan.fda.gov”.

Registration: Stakeholders interested in being a member of the studio audience should indicate their interest by October 13, 2000, by providing name, title, firm name, address, telephone number, and fax number to the contact persons listed below. Seating is limited to 45 persons.

If you are interested in attending as a member of the studio audience and need any reasonable accommodations due to a disability, including a sign language interpreter, please contact Denise M. Buckmon or LaKesha P. Abbey at least 7 days in advance.

SUPPLEMENTARY INFORMATION:

I. Background

FDA advises Federal agencies, State, local, and tribal governments on food safety standards for institutional food service establishments, restaurants, and other retail food stores. In this advisory role, FDA works closely with other Federal agencies to provide guidance and assistance to enhance the regulatory programs of State, local, and tribal jurisdictions.

In January 1996, the National Partnership for Reinventing Government (NPR), formerly the National Performance Review, issued a report entitled “Reinventing Food Regulations.” In this report, NPR concluded that “foodborne illness caused by harmful bacteria and other pathogenic microorganisms in meat, poultry, seafood, dairy products, and a host of other foods is a significant public health problem in the United States.” For years, regulatory and industry food safety programs have been designed to minimize the occurrence of foodborne illness. In 1997, the President called for the creation of a Food Safety Initiative (FSI). FSI established steps for Federal agencies with the primary responsibility of food safety to take in order to reduce foodborne illness. Key necessary actions included: Enhancing surveillance and building an early-warning system; improving responses to foodborne outbreaks; improving risk assessment; developing new research methods; improving inspections and compliance; and furthering food safety education.

To improve responses to foodborne illness outbreaks and risk assessment capabilities, the level of risky practices and behaviors need to be identified. There is, however, a lack of a national baseline on the occurrence of foodborne illness risk factors.

This report and meeting are designed to establish a national baseline on the occurrence of foodborne illness risk factors within the retail segment of the food industry. The CDC-identified foodborne illness risk factors being tracked are: Food from unsafe sources, inadequate cooking, improper holding temperature, contaminated equipment, and poor personal hygiene.

The purpose of the meeting is to present the methodology used for developing a baseline on the occurrence of CDC-identified foodborne illness risk factors in retail-level institutional food establishments, restaurants, and retail food stores. In addition, FDA will present data from the baseline inspections conducted by the FDA Regional Food Specialists in 1998 and 1999.

FDA intends to use the baseline to measure industry and regulatory efforts to change behaviors and practices directly related to foodborne illness. In addition, the data from this report and meeting along with future studies planned for 2003 and 2008 are expected to provide input into the Healthy People 2010's Food Safety Objective 10.6. Objective 10.6 is designed to improve food preparation practices and food employee behaviors at institutional food service establishments, restaurants, and retail food stores. Healthy People 2010 is a national health promotion and disease prevention initiative with the objective to improve the health of all Americans.

Dated: August 31, 2000.
William K. Hubbard,
Senior Associate Commissioner for Policy, Planning, and Legislation.

[FR Doc. 00-22851 Filed 9-1-00; 2:29 pm]

BILLING CODE 4160-01-F